DEPARTMENT OF ENERGY

Federal Energy Regulatory Commission

Combined Notice of Filings #1

Take notice that the Commission received the following electric rate filings:

Docket Numbers: ER19-2259-003.

Applicants: Turquoise Nevada LLC.

Description: Compliance filing: Turquoise Nevada LLC Change in Status to be effective 4/16/2024.

Filed Date: 4/15/24.

Accession Number: 20240415-5253.

Comment Date: 5 p.m. ET 5/6/24.

Docket Numbers: ER19-2276-006.

Applicants: New York Independent System Operator, Inc.

Description: Compliance filing: NYISO Compliance: DER program effective date to be effective 4/16/2024.

Filed Date: 4/16/24.

Accession Number: 20240416-5121.

Comment Date: 5 p.m. ET 5/7/24.

Docket Numbers: ER21-280-001.

Applicants: CO Buffalo Flats, LLC.

Description: Compliance filing: CO Buffalo Flats, LLC Change in Status to be effective 4/16/2024.

Filed Date: 4/15/24.

Accession Number: 20240415-5244.

Comment Date: 5 p.m. ET 5/6/24.

Docket Numbers: ER22-2646-002.

Applicants: Graphite Solar 1, LLC.

Description: Compliance filing: Graphite Solar I, LLC submits tariff filing per 35: Graphite Solar I, LLC Change in Status to be effective 4/16/2024.

Filed Date: 4/15/24.

Accession Number: 20240415-5248.

Comment Date: 5 p.m. ET 5/6/24.

Docket Numbers: ER22-2689-002.

Applicants: MTSun LLC.

Description: Compliance filing: MTSun LLC Change in Status to be effective 4/16/2024.

Filed Date: 4/15/24.

Accession Number: 20240415-5250.

Comment Date: 5 p.m. ET 5/6/24.

Docket Numbers: ER22-2850-002.

Applicants: Fall River Solar, LLC.

Description: Compliance filing: Fall River Solar, LLC Change in Status to be effective 4/16/2024.

Filed Date: 4/15/24.

Accession Number: 20240415-5246.

Comment Date: 5 p.m. ET 5/6/24.

Docket Numbers: ER23-1928-002.

Applicants: Appaloosa Solar I, LLC.

Description: Compliance filing: Appaloosa Solar I, LLC Change in Status to be effective 4/16/2024.

Filed Date: 4/15/24.

Accession Number: 20240415-5242.

Comment Date: 5 p.m. ET 5/6/24.

Docket Numbers: ER24-1761-000.

Applicants: Harmony Florida Solar II, LLC.

Description: Baseline eTariff Filing: Harmony Florida Solar II, LLC Cost-Based PPA with Orlando Utilities Commission to be effective 8/15/2024.

Filed Date: 4/15/24.

Accession Number: 20240415-5255.

Comment Date: 5 p.m. ET 5/6/24.

Docket Numbers: ER24-1762-000.

Applicants: Storey Bend Solar, LLC.

Description: Baseline eTariff Filing: Storey Bend Solar, LLC Cost-Based PPA with Orlando Utilities Commission to be effective 8/15/2024.

Filed Date: 4/15/24.

Accession Number: 20240415-5265.

Comment Date: 5 p.m. ET 5/6/24.

Docket Numbers: ER24-1763-000.

Applicants: FRP Tupelo Solar, LLC.

Description: Baseline eTariff Filing: FRP Tupelo Solar, LLC Cost-Based PPA with Orlando Utilities Commission to be effective 8/15/2024.

Filed Date: 4/15/24.

Accession Number: 20240415-5277.

Comment Date: 5 p.m. ET 5/6/24.

Docket Numbers: ER24-1764-000.

Applicants: FirstEnergy Service Company, PJM Interconnection, L.L.C.

Description: § 205(d) Rate Filing: FirstEnergy Service Company submits tariff filing per 35.13(a)(2)(iii: ATSI submits Revised Interconnection Agreement (IA) SA No. 3994 to be effective 6/16/2024.

Filed Date: 4/16/24.

Accession Number: 20240416-5010.

Comment Date: 5 p.m. ET 5/7/24.

Docket Numbers: ER24-1765-000.

Applicants: Southwest Power Pool, Inc.

Description: § 205(d) Rate Filing: 4247 Minco II Energy Storage Surplus Interconnection GIA to be effective 6/15/2024.

Filed Date: 4/16/24.

Accession Number: 20240416-5066.

Comment Date: 5 p.m. ET 5/7/24.

Docket Numbers: ER24-1767-000.

Applicants: PJM Interconnection, L.L.C.

Description: § 205(d) Rate Filing: Original NSA No. 7232, Queue No. AD2-031 & AF1-159 to be effective 6/16/2024.

Filed Date: 4/16/24.

Accession Number: 20240416-5073.

Comment Date: 5 p.m. ET 5/7/24.

Docket Numbers: ER24-1768-000.

Applicants: Arizona Public Service Company.

Description: Tariff Amendment: Rate Schedule 198—Notice of Cancellation to be effective 6/16/2014.

Filed Date: 4/16/24.

Accession Number: 20240416-5173.

Comment Date: 5 p.m. ET 5/7/24.

Take notice that the Commission received the following electric securities filings:

Docket Numbers: ES24-34-000.

Applicants: Orange and Rockland Utilities, Inc.

Description: Application Under Section 204 of the Federal Power Act for Authorization to Issue Securities of Orange and Rockland Utilities, Inc.

Filed Date: 4/15/24.

Accession Number: 20240415-5337.

Comment Date: 5 p.m. ET 5/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 16, 2024.
Debbie-Anne A. Reese,
Acting Secretary.

[FR Doc. 2024-08537 Filed 4-19-24; 8:45 am]

BILLING CODE 6717-01-P